DEPARTMENT OF TRANSPORTATION

Federal Motor Carrier Safety Administration

[Docket No. FMCSA-2007-28630]

Agency Information Collection Activities; New Information Collection: Share the Road Safely Outreach Program Assessment

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The proposed ICR will be used to collect information on commercial motor vehicle (CMV) and passenger car drivers' awareness of the Share the Road Safely (STRS) safety messages and activities. This information collection will aid FMCSA in developing future Share the Road Safely initiatives by surveying and examining driver awareness of sharing the road safely by using safety messages and activities.

DATES: We must receive your comments on or before November 13, 2007.

ADDRESSES: You may submit comments identified by any of the following methods. Please identify your comments by the FMCSA Docket Number FMCSA-2007-28630.

• Web site: http://dms.dot.gov. Follow instructions for submitting comments to the Docket.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590 between 9 a.m. and 5 p.m., e.t., Monday through Friday, except Federal holidays.

Docket: For access to the Docket Management System (DMS) to read background documents or comments received, go to http://dms.dot.gov at any time or to the U.S. Department of Transportation, Docket Operations, M-30, West Building Ground Floor, Room W12-140, 1200 New Jersey Avenue, SE., Washington, DC 20590 between 9 a.m. and 5 p.m., e.t., Monday through Friday, except Federal holidays. The DMS is available electronically 24 hours each day, 365 days each year. If you want notification of receipt of your comments, please include a self-addressed, stamped envelope, or postcard or print the acknowledgement page that appears after submitting comments on-line.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Mr. Brian Ronk, Office of Outreach and Development, Department of Transportation, Federal Motor Carrier Safety Administration, 1200 New Jersey Avenue, SE., Washington, DC 20590. Telephone: (202) 366-1072, or e-mail brian.ronk@dot.gov.

SUPPLEMENTARY INFORMATION:

Background

The purpose of this study is to assess the awareness of licensed drivers regarding Share the Road Safely messages. The study will assist FMCSA in developing future STRS campaign messages and identifying target audiences and distribution strategies. The data will be collected through a telephone survey. Results of the study will not be published, but used for internal research purposes by FMCSA to assess its outreach activities and identify opportunities to help raise the public's awareness of driving safely in, or around, large trucks and vehicles. A follow-up survey will be conducted two years after the initial data collection and compared against the results from the baseline assessment.

Title: Share the Road Safely Outreach Program Assessment.

OMB Control Number: 2126-XXXX.

Type of Request: New collection.

Respondents: Public/licensed drivers.

Estimated Number of Respondents: 1,500.

Estimated Time per Response: The estimated average burden per response is 10 minutes.

Expiration Date: N/A.

Frequency of Response: Other. The information will be collected during the first year of approval and again two years following the initial data collection.

Estimated Total Annual Burden: 250 hours [1,500 responses × 10 minutes/60 minutes per response = 250].

Public Comments Invited: Interested parties are invited to send comments regarding any aspect of this information collection, including but not limited to: (1) Whether the proposed collection is necessary for the performance of FMCSA's functions; (2) the accuracy of the estimated burden; (3) ways for the FMCSA to enhance the quality, usefulness, and clarity of the collected information; and (4) ways that the burden could be minimized without reducing the quality of the collected information. Comments submitted in response to this notice will be summarized and/ or included in the request for OMB's clearance for this information collection.

Issued on: August 31, 2007.
Michael S. Griffith,
Acting Associate Administrator for Research and Information Technology.

[FR Doc. E7-17806 Filed 9-10-07; 8:45 am]

BILLING CODE 4910-EX-P